DEPARTMENT OF JUSTICE

Antitrust Division

Notice Pursuant to the National Cooperative Research and Production Act of 1993—Ice Crystal Consortium

Notice is hereby given that, on July 28, 2009, pursuant to Section 6(a) of the National Cooperative Research and Production Act of 1993, 15 U.S.C. 4301 et seq. (“the Act”), the Ice Crystal Consortium (“ICC”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: National Institute for Aerospace Studies and Services, Inc., Arlington, VA; The Boeing Company, Seattle, WA; Cessna Aircraft Company, Wichita, KS; General Electric Company, Cincinnati, OH; Hawker Beechcraft Corporation, Wichita, KS; Honeywell International Inc., Tucson, AZ; Rolls Royce plc, Derby, UNITED KINGDOM; Snecma, Moissy Cramayel, FRANCE; and United Technologies Corporation, Pratt & Whitney Group, East Hartford, CT. The general area of ICC's planned activity is to conduct research arid testing on the physical characteristics and behavior of high altitude ice crystals.

Patricia A. Brink,
Deputy Director of Operations, Antitrust Division.

[FR Doc. E9-20413 Filed 8-25-09; 8:45 am]

BILLING CODE 4410-11-M